LEGAL SERVICES CORPORATION

Sunshine Act Meeting; Notice

TIME AND DATE: The Legal Services Corporation Board of Directors' Operations & Regulations Committee (“Committee”) will meet telephonically on December 15, 2010. The meeting will begin at 11 a.m., Eastern Time, and continue until completion of the Committee's agenda.

LOCATION: Legal Services Corporation, F. William McCalpin Conference Center, 3rd Floor, 3333 K Street, NW., Washington, DC 20007.

PUBLIC OBSERVATION: Unless otherwise noticed, all meetings of the LSC Board of Directors are open to public observation. Members of the public that are unable to attend but wish to listen to a public proceeding may do so by following the telephone call-in directions given below. You are asked to keep your telephone muted to eliminate background noises. From time to time the presiding Chair may solicit comments from the public.

Call-In Directions for Open Sessions

• Call toll-free number: 1-(866) 451-4981;

• When prompted, enter the following numeric pass code: 5907707348;

• When connected to the call, please “MUTE” your telephone immediately.

STATUS OF MEETING: Open.

MATTERS TO BE CONSIDERED:

OPEN SESSION

1. Approval of agenda.

2. Consider and act on strategic planning.

• Presentation by Mattie Cohan, Senior Assistant General Counsel.

3. Public comment.

4. Consider and act on other business.

5. Consider and act on adjournment of meeting.

CONTACT PERSON FOR INFORMATION: Katherine Ward, Executive Assistant, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward at (202) 295-1500 or FR_NOTICE_QUESTIONS@lsc.gov.

Dated: December 6, 2010.
Patricia D. Batie,
Corporate Secretary.

[FR Doc. 2010-31027 Filed 12-6-10; 4:15 pm]

BILLING CODE 7050-01-P